DEPARTMENT OF EDUCATION

[Docket No.: ED-2016-ICCD-0137]

Agency Information Collection Activities; Submission to the Office of Management and Budget for Review and Approval; Comment Request; Middle Grades Longitudinal Study of 2017-18 (MGLS: 2017) Operational Field Test (OFT) and Recruitment for Main Study Base-Year Study

AGENCY: National Center for Education Statistics (NCES), Department of Education (ED).

ACTION: Notice.

SUMMARY: In accordance with the Paperwork Reduction Act of 1995 (44 U.S.C. chapter 3501 et seq.), ED is proposing a revision of an existing information collection.

DATES: Interested persons are invited to submit comments on or before January 6, 2017.

ADDRESSES: To access and review all the documents related to the information collection listed in this notice, please use http://www.regulations.gov by searching the Docket ID number ED-2016-ICCD-0137. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-347, Washington, DC 20202-4537.

FOR FURTHER INFORMATION CONTACT: For specific questions related to collection activities, please contact NCES Information Collections at NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Middle Grades Longitudinal Study of 2017-18 (MGLS: 2017) Operational Field Test (OFT) and Recruitment for Main Study Base-year Study.

OMB Control Number: 1850-0911.

Type of Review: A revision of an existing information collection.

Respondents/Affected Public: Individuals or Households.

Total Estimated Number of Annual Responses: 34,952.

Total Estimated Number of Annual Burden Hours: 17,391.

Abstract: The Middle Grades Longitudinal Study of 2017-18 (MGLS:2017) is the first study conducted by the National Center for Education Statistics (NCES) to follow a nationally-representative sample of students as they enter and move through the middle grades (grades 6-8). The data collected through repeated measures of key constructs will provide a rich descriptive picture of the academic experiences and development of students during these critical years and will allow researchers to examine associations between contextual factors and student outcomes. The study will focus on student achievement in mathematics and literacy along with measures of student socioemotional wellbeing and other outcomes. The study will also include a special sample of students with different types of disabilities that will provide descriptive information on their outcomes, educational experiences, and special education services. Main Study Base-year data for the MGLS:2017 will be collected from a nationally-representative sample of 6th grade students beginning in January 2018, with annual follow-ups beginning in January 2019 and in January 2020 when most of the students in the sample will be in grades 7 and 8, respectively. In preparation for the national data collection, referred to as the Main Study, the data collection instruments and procedures must be field tested. An Item Validation Field Test (IVFT) was conducted in the winter/spring 2016 to determine the psychometric properties of items and the predictive potential of assessment and survey items so that valid, reliable, and useful assessment and survey instruments can be composed for the Main Study. An Operational Field Test (OFT) will begin in January 2017 to test the near final instruments and the recruitment and data collection processes and procedures in preparation for the Main Study. OMB approved the recruitment of schools, school districts, and parents to participate in the OFT in December 2015 with the latest change request approved in March 2016 (OMB# 1850-0911 v.6,9,10). The request to conduct the OFT data collection, Main Study recruitment, and tracking of OFT students is currently under review at OMB (OMB# 1850-0911 v.11), with expected approval in early December 2016. This request is to modify language in the parent contacting materials, the video introductory script for the student session, and the study questionnaires (student, parent, math teacher, special education teacher, school administrator, and facilities observation checklist). These changes are driven by the recently completed analyses of IVFT results. The data collection for the OFT will begin January 23, 2017. Main Study recruitment will also commence in January 2017.

Dated: December 2, 2016.
Kate Mullan,
Acting Director, Information Collection Clearance Division, Office of the Chief Privacy Officer, Office of Management.

[FR Doc. 2016-29327 Filed 12-6-16; 8:45 am]

BILLING CODE 4000-01-P